DEPARTMENT OF AGRICULTURE

Forest Service

National Urban and Community Forestry Advisory Council (NUCFAC)

AGENCY: Forest Service, USDA.

ACTION: Notice of meeting.

SUMMARY: The National Urban and Community Forestry Advisory Council (NUCFAC) will meet in Washington, DC. The purpose of the meeting is to discuss emerging issues in urban and community forestry and introduce the new “Council” members.

DATES: The meeting will be held February 5-7, 2008.

ADDRESSES: The meeting will be held at the Doubletree Hotel Downtown, 1515 Rhode Island Avenue, Washington, DC 20005. Written comments and individuals who wish to speak at the meeting or to propose agenda items should send their names and proposals to Nancy Stremple, Executive Staff to the National Urban and Community Forestry Advisory Council, 201 14th Street SW., MS-1151, Washington, DC 20250-1151. Comments may also be sent via e-mail to nstremple@fs.fed.us or via facsimile to (202) 690-5792. All comments, including names and addresses when provided, are placed in the record and are available for public inspection and copying. The public may inspect comments received at the U.S. Forest Service, Sidney R. Yates Building, 201 14th Street, SW., Washington, DC.

FOR FURTHER INFORMATION CONTACT: Nancy Stremple, Executive Staff to the National Urban and Community Forestry Advisory Council, (202) 205-7829, or via e-mail at nstremple@fs.fed.us. Individuals who use telecommunication devices for the deaf (TDD) may call the Federal Information Relay Service (FIRS) at 1-800-877-8339 between 8 a.m. and 8 p.m., Eastern Standard Time, Monday through Friday.

SUPPLEMENTARY INFORMATION: The meeting is open to the public, February 5-7, 2008. Council discussion is limited to Forest Service staff and Council members; however, persons who wish to bring urban and community forestry matters to the attention of the Council may file written statements with the Council staff before or after the meeting. Public input sessions will be provided and individuals who made written requests by January 15, 2008, will have the opportunity to address the Council at those sessions.

Dated: December 19, 2007.
Kent Connaughton,
Associate Deputy Chief, NFS.

[FR Doc. E7-25122 Filed 12-27-07; 8:45 am]

BILLING CODE 3410-11-P